OFFICE OF PERSONNEL MANAGEMENT

Federal Prevailing Rate Advisory Committee; Meeting

AGENCY: Office of Personnel Management.

ACTION: Notice of meeting.

TIME AND DATE: 11:00 a.m., January 2, 2001.

PLACE: OPM Executive Conference Room 5A06A, Theodore Roosevelt Building, 1900 E Street, NW., Washington, DC 20415-0001

STATUS: This meeting will be open to the public at 11:00 am.

MATTERS TO BE CONSIDERED: This meeting is called by the Office of the Chair with less than 15 days public notice so the Committee can complete its current agenda. The meeting is open to the public.

CONTACT PERSON FOR MORE INFORMATION: Geri Coates, Recording Secretary, Office of Personnel Management, Theodore Roosevelt Building, 1900 E Street, NW., Room 5538, Washington, DC 20415-1600, (202) 606-1500.

John F. Leyden,
Chairman, Federal Prevailing Rate, Advisory Committee.

[FR Doc. 00-33117 Filed 12-27-00; 8:45 am]

BILLING CODE 6325-01-P